DEPARTMENT OF AGRICULTURE

Animal and Plant Health Inspection Service

7 CFR Part 301

[Docket No. APHIS-2011-0029]

European Larch Canker; Expansion of Regulated Areas

AGENCY: Animal and Plant Health Inspection Service, USDA.

ACTION: Interim rule and request for comments.

SUMMARY: We are amending the domestic quarantine regulations to expand the regulated area for European larch canker to include additional areas in Maine. We are also correcting some misidentifications of previously listed regulated areas. This action is necessary to prevent human-assisted transmission of European larch canker from infested areas to noninfested areas.

DATES: This interim rule is effective August 23, 2011. We will consider all comments that we receive on or before October 24, 2011.

ADDRESSES: You may submit comments by either of the following methods:

• Federal eRulemaking Portal: Go to http://www.regulations.gov/#!documentDetail;D=APHIS-2011-0029-0001.

• Postal Mail/Commercial Delivery: Send your comment to Docket No. APHIS-2011-0029, Regulatory Analysis and Development, PPD, APHIS, Station 3A-03.8, 4700 River Road Unit 118, Riverdale, MD 20737-1238.

Supporting documents and any comments we receive on this docket may be viewed at http://www.regulations.gov/#!docketDetail;D=APHIS-2011-0029 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Paul Chaloux, National Program Manager, Emergency and Domestic Programs, PPQ, APHIS, 4700 River Road Unit 26, Riverdale, MD 20737; (301) 734-0917.

SUPPLEMENTARY INFORMATION:

Background

European larch canker (ELC), Lachnellula willkommi (Dasycypha), is a serious plant disease caused by a fungus that can kill mature and immature species of the genus Larix (larch) and Pseudolarix (Golden larch). In parts of Europe, ELC has eliminated the European larch as a plantation species. ELC was first discovered in the United States in Massachusetts in 1927. It was declared eradicated in 1965, but in 1984, infestations were found in portions of Maine.

Under the regulations in “Subpart-European Larch Canker” (7 CFR 301.91 through 301.91-9, referred to below as the regulations), the Animal and Plant Health Inspection Service (APHIS) restricts the interstate movement of certain regulated articles from regulated areas to prevent the spread of ELC. These regulations, which were established in May 1984, list parts of several counties in Maine as regulated areas. Articles regulated under the subpart include logs, pulpwood, branches, twigs, plants, and scion and other propagative material of Larix or Pseudolarix spp., except seeds. Such articles may be moved interstate from regulated areas only under certificates, limited permits, or compliance agreements. The regulations also include provisions for the issuance of certificates and limited permits, and requirements for compliance agreements, as well as for assembly and inspection of regulated articles.

Maine has State-imposed ELC quarantine requirements that mirror APHIS' requirements. Each year, the Maine Forest Service conducts survey activities in and around the regulated areas. Since APHIS established the ELC regulations, Maine's survey data have revealed additional instances of ELC in native forested areas in previously uninfested townships within the regulated area. The State of Maine has confirmed the establishment of an intrastate quarantine for the townships of Beddington, Boothbay, South Bristol, T24 Middle Division Bingham's Penobscot Purchase, and T25 Middle Division Bingham's Penobscot Purchase. These townships have been quarantined either because they have been found to be infested with ELC or because they provide a buffer area between infested and uninfested townships.

In this interim rule, we are adding the above-named townships to our list of ELC-regulated areas in § 301.91-3. This action is necessary to prevent the human-assisted dissemination of ELC, thus safeguarding the Nation's forests, landscapes, and natural resources from this highly destructive pathogen.

Because our list of areas regulated for ELC in § 301.91-3 has not been revised in a number of years, certain additional changes are needed to make it current. We are revising the names of some of the listed jurisdictions to reflect current naming conventions, including the use of abbreviations, for townships in Maine. These naming conventions are also used elsewhere in our regulations, e.g., in the list of areas in Maine regulated for gypsy moth under § 301.45-3. We are also correcting some misspellings in the regulations of the names of townships regulated for ELC. These changes and corrections are intended to prevent any misidentification of, or confusion about, ELC-regulated areas.

Emergency Action

This rulemaking is necessary on an emergency basis to prevent the human-assisted spread of ELC to noninfested areas. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities.

Maine has expanded its intrastate ELC quarantine to include the townships of Beddington, Boothbay, South Bristol, T24 Middle Division Bingham's Penobscot Purchase, and T25 Middle Division Bingham's Penobscot Purchase. This interim rule amends our domestic ELC quarantine regulations to include additional those areas in Maine and to correct some misidentifications of previously listed regulated areas.

The only small entities in the newly federally regulated townships that may be affected are forestry operations. The number of these operations in the 5 townships has ranged between 8 and 18 over the past 5 years. It is estimated that the annual value of harvested larch sold from the newly quarantined areas averages about $375. Any potential impact of the rule is further minimized by the opportunity for forestry operations to enter into compliance agreements with lumber mills to process larch from quarantined areas.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501 A-293; sections 301.75-15 and 301.75-16 issued under Sec. 203, Title II, Public Law 106-224, 114 Stat. 400 (7 U.S.C. 1421 note).

2. In § 301.91-3, paragraph (c), the entry for Maine is revised to read as follows:

§ 301.91-3 Regulated areas.

* * * * *

(c) * * *

Maine

Hancock County. The entire townships of Gouldsboro, Sorrento, Sullivan, T7 SD, T9 SD, T10 SD, and T16 MD, and Winter Harbor.

Knox County. The entire townships of Appleton, Camden, Cushing, Friendship, Hope, Owls Head, Rockland, Rockport, Saint George, South Thomaston, Thomaston, Union, Warren, and Washington.

Lincoln County. The entire townships of Alna, Boothbay, Boothbay Harbor, Bremen, Bristol, Damariscotta, Edgecomb, Jefferson, Newcastle, Nobleboro, Somerville, South Bristol, Southport, Waldoboro, Westport Island, and Wiscasset.

Waldo County. The entire townships of Lincolnville and Searsmont.

Washington County. The entire townships of Addison, Baring Plantation, Beals, Beddington, Berry Township, Calais, Cathance Township, Centerville Township, Charlotte, Cherryfield, Columbia, Columbia Falls, Cooper, Cutler, Deblois, Dennysville, East Machias, Eastport, Edmunds Township, Harrington, Jonesboro, Jonesport, Lubec, Machias, Machiasport, Marion Township, Marshfield, Meddybemps, Milbridge, Northfield, Pembroke, Perry, Robbinston, Roque Bluffs, Steuben, T18 MD BPP, T19 MD BPP, T24 MD BPP, T25 MD BPP, Trescott Township, Whiting, and Whitneyville.

Done in Washington, DC, this 17th day of August 2011.
Gregory L. Parham,
Administrator, Animal and Plant Health Inspection Service.

[FR Doc. 2011-21519 Filed 8-22-11; 8:45 am]

BILLING CODE 3410-34-P